DEPARTMENT OF THE INTERIOR

National Park Service

[NPS-WASO-NRNHL-22453]; PPWOCRADI0, PCU00RP14.R50000]

National Register of Historic Places; Notification of Pending Nominations and Related Actions

AGENCY: National Park Service, Interior.

ACTION: Notice.

SUMMARY: The National Park Service is soliciting comments on the significance of properties nominated before November 12, 2016, for listing or related actions in the National Register of Historic Places.

DATES: Comments should be submitted by December 27, 2016.

ADDRESSES: Comments may be sent via U.S. Postal Service to the National Register of Historic Places, National Park Service, 1849 C St. NW., MS 2280, Washington, DC 20240; by all other carriers, National Register of Historic Places, National Park Service, 1201 Eye St. NW., 8th Floor, Washington, DC 20005; or by fax, 202-371-6447.

SUPPLEMENTARY INFORMATION: The properties listed in this notice are being considered for listing or related actions in the National Register of Historic Places. Nominations for their consideration were received by the National Park Service before November 12, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

CALIFORNIA

Los Angeles County

Woman's Club of Hollywood, 1741-1749 N. La Brea Ave., Los Angeles, 16000883

Riverside County

Coachella Valley Savings No. 1, (Architecture of E. Stewart Williams MPS), 383 S. Palm Canyon Dr., Palm Springs, 16000884

Coachella Valley Savings No. 2, (Architecture of E. Stewart Williams MPS), 499 S. Palm Canyon Dr., Palm Springs, 16000885

Edris House, (Architecture of E. Stewart Williams MPS), 1030 W. Cielo Dr., Palm Springs, 16000886

Kenaston House, (Architecture of E. Stewart Williams MPS), 39767 Desert Sun Dr., Rancho Mirage, 16000887

Koerner House, (Architecture of E. Stewart Williams MPS), 1275 S. Calle de Maria, Palm Springs, 16000888

Palm Springs Aerial Tramway Mountain Station, (Architecture of E. Stewart Williams MPS), 1 Tram Way, Idyllwild, 16000889

Palm Springs Desert Museum, (Architecture of E. Stewart Williams MPS), 101 Museum Dr., Palm Springs, 16000890

Palm Springs Unified School District Educational Administrative Center, (Architecture of E. Stewart Williams MPS), 333 S. Farrell Dr., Palm Springs, 16000891

Santa Fe Federal Savings and Loan Association, (Architecture of E. Stewart Williams MPS), 300 S. Palm Canyon Dr., Palm Springs, 16000892

Sinatra, Frank, House, (Architecture of E. Stewart Williams MPS), 1145 E. Via Colusa Rd., Palm Springs, 16000893

Williams, E. Stewart and Mari, House, (Architecture of E. Stewart Williams MPS), Address Restricted, Palm Springs, 16000894

ILLINOIS

Cook County

Brainerd Bungalow Historic District, (Chicago Bungalows MPS), Roughly bounded by 89th, S. May, 95th & S. Loomis Sts., Chicago, 16000895

Brigham, Edmund D., House, 790 Sheridan Rd., Glencoe, 16000900

Du Page County

Sloane, William and Jennette, House, 248 S. Arlington Ave., Elmhurst, 16000896

Kane County

Central Geneva Historic District (Boundary Increase and Additional Documentation), 0-200, 300-500 blks. S. 6th, 11-13 S. 7th, 600 blks. of State, James, Campbell, Fulton & South, 9,11 N. 2nd Sts., Geneva, 16000897

North Geneva Historic District (Boundary Decrease and Additional Documentation), 100-200 N. River Ln., Geneva, 16000898

Potter and Barker Grain Elevator, 1N298 La Fox Rd., La Fox, 16000899

Peoria County

Marquette Apartments, 701 Main St., Peoria, 16000901

St. Clair County

Turkey Hill Grange Hall, 1375 E. IL 15, Belleville, 16000902

INDIANA

Elkhart County

Baugo Township Gymnasium, (Indiana's Public Common and High Schools MPS), NE. side of Cty. Rd. 22, approx. 165 ft. NW. of Cty. Rd. 3, Elkhart, 16000903

Knox County

Mont Clair, 3890 E. Johnson Farm Rd., Vincennes, 16000904

La Porte County

Scott—Rumley House, 211 Rose St., La Porte, 16000905

Martin County

Shoals Historic District, Roughly bounded by White R., 7th, 1st & High Sts., Shoals, 16000906

Miami County

Converse Commercial Historic District, 4 blks. along Jefferson between Marion & 1st Sts. & 1 blk. of E. Railroad St., Converse, 16000907

Rush County

Henley, Henry, Public Library, 103 N. Main St., Carthage, 16000908

MARYLAND

Baltimore Independent City

St. Brigid's School and Convent, 900 S. East Ave., Baltimore (Independent City), 16000909

MICHIGAN

Washtenaw County

Metcalf, Robert C. and Bettie J. (Sponseller), House, 1052 Arlington Blvd., Ann Arbor, 16000910

Muschenheim, William and Elizabeth (Bodanzky), House, 1251 Heather Way, Ann Arbor, 16000911

NEVADA

Washoe County

Newlands Historic District, Bounded by Truckee R., Arlington & Marsh/Keystone Aves., Arlington & Monroe Sts., Reno, 16000912

NORTH CAROLINA

Lenoir County

Midtown Motor Lodge, 501 N. Herritage St., Kinston, 16000913

OREGON

Lincoln County

Franck, Joseph T., House, 304 NE. San Bay-O Cir., Newport, 16000914

TEXAS

Dallas County

Hughes Brothers Manufacturing Company Building, 1401 S. Ervay St., Dallas, 16000915

St. Paul Methodist Episcopal Church, 1816 Routh St., Dallas, 16000916

Harris County

Medical Towers, 1709 Dryden Rd., Houston, 16000918

Potter County

Levine's Department Store, 800 S. Polk St., Amarillo, 16000917

VERMONT

Washington County

Lareau Farmstead, (Agricultural Resources of Vermont MPS), 48 Lareau Rd., Waitsfield, 16000919

Authority: 60.13 of 36 CFR part 60.

Dated: November 18, 2016.
Robie Lange,
Acting Chief, National Register of Historic Places/National Historic Landmarks Program.

[FR Doc. 2016-29627 Filed 12-9-16; 8:45 am]

BILLING CODE 4312-52-P